DEPARTMENT OF ENERGY

Federal Energy Regulatory Commission

[Docket No. GT00-29-000]

Williston Basin Interstate Pipeline Company; Notice of Tariff Filing

May 2, 2000.

Take notice that on April 28, 2000, Williston Basin Interstate Pipeline Company (Williston Basin), tendered for filing as part of its FERC Gas Tariff, Second Revised Volume No. 1, the following revised tariff sheets to become effective April 28, 2000:

Seventh Revised Sheet No. 5

Fifth Revised Sheet No. 6A

Fifth Revised Sheet No. 8

Sixth Revised Sheet No. 9

Williston Basin states that the revised tariff sheets are being filed simply to update its System Maps with the most recent information available.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11354 Filed 5-5-00; 8:45 am]

BILLING CODE 6717-01-M